DEPARTMENT OF COMMERCE

Foreign-Trade Zones Board

[B-77-2014]

Foreign-Trade Zone 80—San Antonio, TX Application for Reorganization Under Alternative Site Framework

An application has been submitted to the Foreign-Trade Zones (FTZ) Board by the City of San Antonio, grantee of FTZ 80, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on October 22, 2014.

FTZ 80 was approved by the FTZ Board on September 16, 1982 (Board Order 200, 47 FR 42011, 9/23/1982), and expanded on May 17, 1991 (Board Order 522, 56 FR 24171, 5/29/1991) and on September 25, 1997 (Board Order 923, 62 FR 51831, 10/3/1997). The current zone includes the following sites in San Antonio: Site 1 (1.32 acres)—San Antonio Distribution Center, 5040 Space Center Drive; Site 2 (50 acres)—San Antonio International Airport Cargo Facilities, 9800 Airport Boulevard; Site 3 (500 acres)—Freeport Business Center, 10745 Fisher Road; Site 4 (195 acres)—Cornerstone Business & Industrial Park, 1510 Cornerway Boulevard; Site 5 (281 acres)—Tri-County Business & Industrial Park, 6421 FM 3009; Site 6 (633 acres)—Foster Ridge Industrial Park, 6655 Lancer Boulevard; Site 7A (11.7 acres)—Binz-Engleman Center, 3802 Binz-Engleman Road; Site 7B (18.91 acres)—City Park East Business Center, 8563 NE Loop 410; Site 8 (45.67 acres)—Coliseum Distribution Center, 1143 AT&T Center Parkway; Site 9 (85 acres)—Hemisfair Convention Center & Alamodome, 200 South Alamo Street; and, Site 10 (2,407 acres)—Port San Antonio, 143 Billy Mitchell Boulevard.

The grantee's proposed service area under the ASF would be Bexar County in its entirety and portions of Comal and Guadalupe Counties, Texas, as described in the application. If approved, the grantee would be able to serve sites throughout the service area based on companies' needs for FTZ designation. The proposed service area is within and adjacent to the San Antonio Customs and Border Protection port of entry.

The applicant is requesting authority to reorganize its existing zone as follows: Renumber Site 7A as Site 7; Renumber Site 7B as Site 11; and, Sites 1 thru 11 would become “magnet” sites. The ASF allows for the possible exemption of one magnet site from the “sunset” time limits that generally apply to sites under the ASF, and the applicant proposes that Site 3 be so exempted. No subzones/usage-driven sites are being requested at this time. The application would have no impact on FTZ 80's previously authorized subzones.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is December 29, 2014. Rebuttal comments in response to material submitted during the foregoing period may be submitted during the subsequent 15-day period to January 12, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: October 22, 2014.
Andrew McGilvray,
Executive Secretary.

[FR Doc. 2014-25631 Filed 10-27-14; 8:45 am]

BILLING CODE 3510-DS-P